DEPARTMENT OF TRANSPORTATION

Federal Aviation Administration

14 CFR Part 97

[Docket No. 30418; Amdt. No. 3100]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 13, 2004. The compliance date for each SIAP is specified in the amendatory provisions.

The incorporation by reference of certain publications listed in the regulations is approved by the Director of the Federal Register as of July 13, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169, (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on July 2, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amened to read as follows:

* * * Effective August 5, 2004

Eagle, CO, Eagle County Regional, LOC/DME-C, Amdt 2B

Eagle, CO, Eagle County Regional, LOC-B, Amdt 1C

Portland, ME, Portland Intl Jetport, ILS OR LOC RWY 29, Amdt 1

Olive Branch, MS, Olive Branch, RNAV (GPS) RWY 18, Amdt 1

Olive Branch, MS, Olive Branch, RNAV (GPS) RWY 36, Orig

Olive Branch, MS, Olive Branch, ILS OR LOC RWY 18, Amdt 1

Olive Branch, MS, Olive Branch, NDB RWY 18, Amdt 5

Olive Branch, MS, Olive Branch, NDB RWY 36, Amdt 6

Binghamton, NY, Greater Binghamton/Edwin A. Link Field, VOR/DME RWY 28, Amdt 10

Binghamton, NY, Greater Binghamton/Edwin A. Link Field, NDB RWY 34, Amdt 18

Binghamton, NY, Greater Binghamton/Edwin A. Link Field, RNAV (GPS) RWY 16, Orig

Binghamton, NY, Greater Binghamton/Edwin A. Link Field, RNAV (GPS) RWY 28, Orig

Binghamton, NY, Greater Binghamton/Edwin A. Link Field, RNAV (GPS) RWY 34, Orig

Carlsbad, NM, Cavern City Air Terminal, GPS RWY 21, Amdt 1, CANCELLED

Cleveland, OH, Cleveland-Hopkins Intl, ILS OR LOC RWY 6L, Amdt 1

Cleveland, OH, Cleveland-Hopkins Intl, ILS OR LOC RWY 6R, Amdt 19; ILS RWY 6R (CAT II), Amdt 19; ILS RWY 6R (CAT III), Amdt 19

Cleveland, OH, Cleveland-Hopkins Intl, ILS OR LOC/DME RWY 24R, Amdt 2

Salem, OR, McNary Fld, RNAV (GPS) Y RWY 31, Orig

Salem, OR, McNary Fld, RNAV (GPS) Z RWY 31, Amdt 1

Quakertown, PA, Quakertown, VOR RWY 29, Amdt 1

Quakertown, PA, Quakertown, NDB RWY 29, Amdt 10

Quakertown, PA, Quakertown, RNAV (GPS) RWY 29, Orig

Fort Worth, TX, Fort Worth Alliance, ILS OR LOC RWY 34R, Amdt 5

Lancaster, TX, Lancaster, NDB RWY 31, Amdt 2

Lancaster, TX, Lancaster, RNAV (GPS) RWY 31, Orig

Sheboygan, WI, Sheboygan County Memorial, VOR RWY 3, Amdt 7

Sheboygan, WI, Sheboygan County Memorial, VOR RWY 21, Amdt 7

Sheboygan, WI, Sheboygan County Memorial, NDB RWY 21, Amdt 1

Sheboygan, WI, Sheboygan County Memorial, ILS OR LOC RWY 21, Amdt 1

Sheboygan, WI, Sheboygan County Memorial, RNAV (GPS) RWY 21, Orig

* * * Effective September 2, 2004

Indianapolis, IN, Mount Comfort, VOR RWY 34, Amdt 2

Indianapolis, IN, Mount Comfort, RNAV (GPS) RWY 16, Orig

Indianapolis, IN, Mount Comfort, RNAV (GPS) RWY 34, Orig

* * * Effective September 30, 2004

Allakaket, AK, Allakaket, RNAV (GPS) RWY 5, Orig

Allakaket, AK, Allakaket, RNAV (GPS) RWY 23, Orig

Waynesboro, GA, Burke County, NDB RWY 8, Amdt 2B

Waynesboro, GA, Burke County, RNAV (GPS) RWY 8, Orig

Waynesboro, GA, Burke County, RNAV (GPS) RWY 26, Orig

Roswell, NM, Roswell International Air Center, VOR-B, Amdt 1

Lubbock, TX, Lubbock Intl, ILS OR LOC RWY 26, Amdt 2B

The FAA published an Amendment in Docket No. 30416, Amdt No. 3099 to Part 97 of the Federal Aviation Regulations (Vol 69, FR No. 123, Page 36009; dated June 28, 2004) under Section 97.33 effective 5 Aug 2004, which is hereby rescinded:

Allakaket, AK, Allakaket, RNAV (GPS) RWY 5, Orig

Allakaket, AK, Allakaket, RNAV (GPS) RWY 23, Orig

[FR Doc. 04-15643 Filed 7-12-04; 8:45 am]

BILLING CODE 4910-13-P